FEDERAL COMMUNICATIONS COMMISSION

47 CFR Part 73

[MB Docket No. 11-139; RM-11636; DA 13-258]

Television Broadcasting Services; Hampton-Norfolk, Virginia; Norfolk, Virginia-Elizabeth City, North Carolina

AGENCY: Federal Communications Commission.

ACTION: Final rule.

SUMMARY: The Commission has before it a petition for rulemaking filed by Hampton Roads Educational Telecommunications Association's (HRETA). HRETA requests the reallotment of its channel *16 to Norfolk, Virginia-Elizabeth City, North Carolina, and to modify its television station, WHRO-TV's license to specify Norfolk, Virginia-Elizabeth City, North Carolina as its community of license. Norfolk, Virginia-Elizabeth City, North Carolina fails to qualify as a community for allotment purposes, and therefore, HRETA's request to modify its community of license is been denied and its petition for rulemaking is dismissed.

DATES: This rule is effective March 19, 2013.

FOR FURTHER INFORMATION CONTACT: Jeremy Miller, Jeremy.Miller@fcc.gov, Media Bureau, (202) 418-1600.

SUPPLEMENTARY INFORMATION: This is a synopsis of the Commission's Report and Order, MB Docket No. 11-139, adopted February 21, 2013, and released February 22, 2013. The full text of this document is available for public inspection and copying during normal business hours in the FCC's Reference Information Center at Portals II, CY-A257, 445 12th Street SW., Washington, DC, 20554. This document will also be available via ECFS (http://fjallfoss.fcc.gov/ecfs/). This document may be purchased from the Commission's duplicating contractor, Best Copy and Printing, Inc., 445 12th Street, SW., Room CY-B402, Washington, DC 20554, telephone 1-800-478-3160 or via the company's Web site, http://www.bcpiweb.com. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any information collection burden “for small business concerns with fewer than 25 employees,” pursuant to the Small Business Paperwork Relief Act of 2002, Public Law 107-198, see 44 U.S.C. 3506(c)(4). Provisions of the Regulatory Flexibility Act of 1980 do not apply to this proceeding.

The Commission will send a copy of this Report and Order in a report to be sent to Congress and the Government Accountability Office pursuant to the Congressional review Act, see 5 U.S.C. 801(a)(1)(A).

Federal Communications Commission.
Barbara A. Kreisman,
Chief, Video Division, Media Bureau.

[FR Doc. 2013-06316 Filed 3-18-13; 8:45 am]

BILLING CODE 6712-01-P